SMALL BUSINESS ADMINISTRATION

2 CFR Part 2700

RIN 3245-AF76

Amendments to the Definition of the Nonprocurement Suspension and Debarment Officials

AGENCY: U.S. Small Business Administration.

ACTION: Direct final rule.

SUMMARY: The U.S. Small Business Administration (SBA or Agency) is making two technical changes to the regulations pertaining to grants and agreements. SBA is amending the definitions for the debarring official and the suspending official for nonprocurement debarment and suspension actions for programs other than the financial assistance programs. Currently the debarring official and the suspending official for all programs other than financial assistance is the Director of the Office of Business Operations. This rule will change the debarring official and suspending official to the Associate General Counsel for Procurement Law. SBA is also amending its regulations to change the title of the Agency's Office of Lender Oversight to the Office of Credit Risk Management.

DATES: This rule is effective September 8, 2008, without further action, unless SBA receives a significant adverse comment by August 25, 2008. If SBA receives any significant adverse comments, the Agency will publish a timely withdrawal of this rule in the Federal Register.

ADDRESSES: You may submit comments, identified by RIN: 3245-AF76, by any of the following methods:

• Federal eRulemaking Portal: http://www.regulations.gov. Follow the instructions for submitting documents.

• Mail, for paper, disk, or CD-ROM submissions: Lara Hudson, Office of General Counsel, 409 Third Street, SW., Washington, DC 20416.

• Hand Delivery/Courier: Lara Hudson, Office of General Counsel, 409 Third Street, SW., Washington, DC 20416.

SBA will post all comments on http://www.regulations.gov. If you wish to submit confidential business information (CBI) as defined in the User Notice at http://www.regulations.gov, please submit the information to Lara Hudson, Office of General Counsel, 409 Third Street, SW., Washington, DC 20416, or send an e-mail to lara.hudson@sba.gov, and highlight the information that you consider to be CBI and explain why you believe SBA should hold this information as confidential. SBA will review the information and make its final determination of whether it will publish the information or not.

FOR FURTHER INFORMATION CONTACT: Lara Hudson, Attorney Advisor, Office of General Counsel, U.S. Small Business Administration, 409 Third St., SW., Washington, DC 20416, telephone 202-619-0563 and e-mail: lara.hudson@sba.gov.

SUPPLEMENTARY INFORMATION: On September 18, 2007 SBA moved the regulations pertaining to nonprocurement debarment and suspension from title 13 of the Code of Federal Regulations (CFR) to title 2 of the CFR. 72 FR 39727. The regulations state that the debarring official and the suspending official for non procurement financial assistance programs is the Director of the Office of Lender Oversight. The regulations also state that the debarring official and suspending official for all other non procurement programs is the Director of the Office of Business Operations. SBA is amending its regulations to reflect the new title of the Agency's Office of Lender Oversight. That office is now known as the Office of Credit Risk Management. No changes are made to the responsibilities, reporting relationships, or other regulatory duties of that office.

SBA is also amending the designation for the debarring and suspending official for all other nonprocurement programs from the Director of the Office of Business Operations to the Associate General Counsel for Procurement Law. The purpose for this change is to conform SBA's debarring and suspending official to those commonly used across the Federal Government. The substance of SBA's nonprocurement debarment and suspension regulations are unchanged.

Consideration of Comments

This is a direct final rule and SBA will review all comments. SBA believes that this rule is routine and non-controversial, and SBA anticipates no significant adverse comments to this rulemaking. If SBA receives any significant adverse comments, it will publish a timely withdrawal of this direct final rule.

Compliance With Executive Orders 12866, 12988, 13132 and the Regulatory Flexibility Act (5 U.S.C. 601-612), and the Paperwork Reduction Act (44 U.S.C. Ch. 35)

The Office of Management and Budget (OMB) has determined that this rule does not constitute a significant regulatory action under Executive Order 12866.

This action meets applicable standards set forth in sections 3(a) and 3(b)(2) of Executive Order 12988, Civil Justice Reform, to minimize litigation, eliminate ambiguity, and reduce burden. The action does not have retroactive or preemptive effect.

The final rule will not have substantial direct effects on the States, on the relationship between the national government and the States, or the distribution of power and responsibilities among the various levels of government. Therefore, for the purposes of Executive Order 13132, Federalism, SBA determines that this final rule has no federalism implications warranting preparation of a federalism assessment.

SBA has determined that this final rule does not impose additional reporting or recordkeeping requirements under the Paperwork Reduction Act, 44 U.S.C., Chapter 35.

SBA certifies that this proposed rule would not have a significant impact on a substantial number of small entities within the meaning of the Regulatory Flexibility Act, 5 U.S.C. 601-612. The proposed rule contains amendments to SBA's rules concerning certification, continued eligibility, and contracting under the 8(a) BD program. Any economic impact would be minimal and would not affect a significant number of small entities. It is not likely to have an annual economic effect of $100 million or more, result in a major increase in costs or prices, or have a significant adverse effect on competition or the United States economy.

List of Subjects in 2 CFR Part 2700

Administrative practice and procedure, Debarment and suspension, Grant programs, Reporting and recordkeeping requirements.

For the reasons set forth in the preamble, SBA amends 2 CFR Part 2700 as follows:

PART 2700—NONPROCUREMENT DEBARMENT AND SUSPENSION

1. The authority citation for part 2700 continues to read as follows:

Authority: Sec. 2455, Pub. L. 103-355, 108 Stat. 3327 (31 U.S.C. 6101 note); E.O. 12549 (3 CFR, 1986 Comp., p. 189); E.O. 12689 (3 CFR, 1989, 1986 Comp., p. 235); 15 U.S.C. 634(b)(6).

§§ 2700.137, 2700.930, and 2700.1010 [Amended]

2. In 2 CFR Part 2700 remove the words “Office of Lender Oversight” and add in their place the words “Office of Credit Risk Management” in the following places:

a. Section 2700.137.

b. Section 2700.930.

c. Section 2700.1010.

§§ 2700.930 and 2700.1010 [Amended]

3. In addition to the amendments set forth above, in 2 CFR Part 2700 remove the words “Director of the Office of Business Operations” and add in its place the words “Associate General Counsel for Procurement Law” in the following places:

a. Section 2700.137.

b. Section 2700.930.

c. Section 2700.1010.

Jovita Carranza,
Acting Administrator.

[FR Doc. E8-16902 Filed 7-24-08; 8:45 am]

BILLING CODE 8025-01-P